DEPARTMENT OF AGRICULTURE

Forest Service

Wallowa-Whitman National Forest; Notice of Availability of the Draft Record of Decision and Final Environmental Impact Statement for the Boardman to Hemingway Transmission Line Project, Oregon

AGENCY: Forest Service, USDA.

ACTION: Notice.

SUMMARY: The USDA Forest Service (USFS), Wallowa-Whitman National Forest, announces the availability of the Draft Record of Decision (ROD) for the Boardman to Hemingway Transmission Line Project (B2H Project) for public review. The proposed actions and activities described in the Draft ROD are subject to project-level predecisional administrative review (known as an “objection” process) and a 45-day objection filing period began with publication of a legal notice in the Baker City Herald. The USFS previously notified the public that the agency would waive its administrative review procedures and adopt the Bureau of Land Management's (BLM) protest procedures for its decisions to issue a special use authorization and to amend the Forest Plan. Following further review of the scope of the decisions that the USFS will make and the applicable regulations, the USFS determined it must instead follow their own agency's project-level predecisional administrative review process.

DATES: An individual or entity who meets eligibility for objecting to a draft decision outlined in 36 CFR 218.5 and wishes to file an objection must do so within 45 days of the date that the Wallowa-Whitman National Forest published the Legal Notice in the newspaper of record, the Baker City Herald. The publication date of the Legal Notice is the exclusive means for calculating the time to file an objection.

ADDRESSES: The Final Environmental Impact Statement (FEIS) was circulated by the BLM. The USFS adopted the FEIS. As a cooperating agency for the B2H Project, the USFS need not recirculate the FEIS. However, the document remains available for review on the Applicant's project website at https://www.boardmantohemingway.com/documents.aspx and copies are available upon request. Copies of the Draft ROD were sent to Federal, Tribal, State, and local governments potentially affected by the proposed USFS decision, to public libraries in the area, and to interested parties that previously requested a DVD copy. Interested persons may also review the FEIS and Draft ROD, along with the legal notice announcing the objection period, on the internet at https://www.fs.usda.gov/project/?project=26709.

The reviewing officer for this project is James Peña, Regional Forester, Pacific Northwest Region. Written objections, including any attachments, must be filed with the reviewing officer and may be sent as follows:

Postal delivery (via USPS): Reviewing Officer, Pacific Northwest Region, USDA Forest Service, Attn. 1570 Appeals and Objections, P.O. Box 3623, Portland, OR 97208-3623.

Email: objections-pnw-regional-office@fs.fed.us with OBJECTION and “B2H Project” in the subject line.

Hand delivered (including courier delivery): Pacific Northwest Regional Office, Edith Green Wendell Wyatt Federal Building, 1220 SW 3rd Avenue, Portland, Oregon. Hand deliveries can occur between 8:00 a.m. and 4:30 p.m., Monday-Friday, except legal holidays;

Faxed: 503-808-2339, with OBJECTION and “B2H Project” noted on the cover sheet.

FOR FURTHER INFORMATION CONTACT: Arlene Blumton, Forest Service Project Lead; by telephone at 541-962-8522; or email to boardmantohemingway@fs.fed.us. Individuals who use telecommunication devices for the deaf (TDD) may call the Federal Information Relay Service (FIRS) at 1-800-877-8339 between 8 a.m. and 8 p.m., Eastern Time, Monday through Friday.

For information about the BLM's involvement, contact: Renee Straub, Assistant Field Manager, Bureau of Land Management, Vale District Office; 100 Oregon St., Vale, Oregon 97918; by telephone 541-473-6289. Persons who use a telecommunications device for the deaf may call the Federal Relay Service (FRS) at (800) 877-8339 to contact the above individual during normal business hours. The FRS is available 24 hours a day, 7 days a week, to leave a message or question with the above individual. You will receive a reply during normal business hours.

SUPPLEMENTARY INFORMATION: In accordance with the National Environmental Policy Act of 1969, as amended (NEPA), and the Federal Land Policy and Management Act of 1976, as amended (FLPMA), the Bureau of Land Management (BLM), together with cooperating agencies including the USFS, prepared a FEIS and proposed Land Use Plan Amendments for the B2H Project. The Environmental Protection Agency (EPA) published a Notice of Availability (NOA) for the FEIS in the Federal Register on November 25, 2016 (81 FR 85222). BLM published a NOA for the FEIS in the Federal Register on November 28, 2016 (81 FR 85632). The USFS adopted the FEIS and related documents prepared by the lead agency (BLM) following 40 CFR 1506.3. A NOA announcing USFS's adoption of the FEIS was published by the EPA in the Federal Register on June 30, 2017 (82 FR 29589).

The FEIS analyzes the potential environmental impacts of BLM granting a right-of-way to Idaho Power Company (Applicant) to use BLM-managed lands to construct and operate an approximately 300 mile long overhead, single-circuit, 500-kilovolt (kV) alternating-current electric transmission line with ancillary facilities. The FEIS also analyzes the potential environmental impacts of the USFS issuing a special use authorization for the construction, operation, and maintainenance of those portions of the transmission line and ancillary facilities located on lands administered by the USFS. In addition, the FEIS analyzes the potential environmental impacts of an amendment to the Wallowa-Whitman National Forest's 1990 Land and Resource Management Plan (Forest Plan) that are necessary to make the Forest Plan consistent with the B2H Project.

The USFS Responsible Official, the Wallowa-Whitman National Forest Supervisor, must respond to the Applicant's request for use of National Forest System lands and determine whether to issue a special-use authorization for the construction, operation, and maintenance of the Proposed Action and, if issued, determine what terms and conditions should apply. The USFS Responsible Official must also approve any amendment to the Forest Plan necessary to make the Forest Plan consistent with the Project. The USFS Responsible Official's decisions will be separate from the decisions that BLM made in their November 17, 2017 Record of Decision.

The FEIS and the USFS's Draft Record of Decision (ROD) are available for public review. As required by 36 CFR 218.7(c), the Wallowa-Whitman National Forest published a Legal Notice of the opportunity to object in the newspaper of record, the Baker City Herald. Eligible individuals and entities may file objections pursuant to 36 CFR 218 Subparts A and B. The USFS previously notified the public that, pursuant to 36CFR 219.59(a), the agency would waive its administrative review procedures and adopt the BLM's protest procedures for its decisions to issue a special use authorization and to amend the Forest Plan (NOA for the Draft EIS, 79 FR 75834). Following further review of the scope of the decisions that the USFS will make and the applicable regulations, the USFS determined it must instead follow the project-level predecisional administrative review process described at 36 CFR 218 Subparts A and B.

Dated: May 9, 2018.
Chris French,
Associate Deputy Chief, National Forest System.

[FR Doc. 2018-12156 Filed 6-5-18; 8:45 am]

BILLING CODE 3411-15-P